NUCLEAR REGULATORY COMMISSION

[Docket No. 030-28641, License No. 42-23539-01AF Department of the Air Force; Docket No. 030-29462, License No. 45-23645-01NA, Department of the Navy; Docket No. 040-08767, License No. SUC-1380, Department of the Army]

Notice of Issuance of Director's Decision Under 10 CFR 2.206

Notice is hereby given that the Director, Office of Nuclear Material Safety and Safeguards, has issued a director's decision with regard to a petition dated June 1, 2000, filed by Doug Rokke, Ph.D., hereinafter referred to as the “petitioner.” The petition concerns the use of depleted uranium (DU) by the U.S. Department of Defense and all services.

The petition requested that the U.S. Nuclear Regulatory Commission (Commission or NRC) hold a hearing to consider “the revocation of the master DU [depleted uranium] license for the U.S. Department of Defense and all services, implementation of substantial fines and consideration of personal criminal liability.” As the basis for this request, the petitioner stated that “the continuing deliberate use of DU munitions during battle and during peacetime is resulting in serious health and environmental consequences.”

By letter dated September 8, 2000, and addressed to the petitioner, the NRC staff acknowledged receiving the petition, and stated that pursuant to 10 CFR 2.206 the petition was referred to the Office of Nuclear Material Safety and Safeguards for action, and that it would be acted upon within a reasonable time.

The NRC staff requested the U.S. Department of the Air Force, the U.S. Department of the Army, and the U.S. Department of the Navy to respond to the petition. The licensees responded on October 30, 2000, and the information provided was considered by the staff in its evaluation of the petition.

The Director of the Office of Nuclear Material Safety and Safeguards has determined that the request to hold a hearing to consider the revocation of the military licenses authorizing the use of DU, implementation of substantial fines, and consideration of personal criminal liability, should be denied. The reasons for this decision are explained in the director's decision pursuant to 10 CFR 2.206 [DD-01-01], the complete text of which is available in ADAMS for inspection at the Commission's Public Document Room, located at One White Flint North, 11555 Rockville Pike (first floor), Rockville, Maryland, and via the NRC's Web site (http://www.nrc.gov) on the World Wide Web, under the “Public Involvement” icon.

A copy of the director's decision will be filed with the Secretary of the Commission for the Commission's review in accordance with 10 CFR 2.206 of the Commission's regulations. As provided for by this regulation, the director's decision will constitute the final action of the Commission 25 days after the date of the decision, unless the Commission, on its own motion, institutes a review of the director's decision in that time.

Dated at Rockville, Maryland, this 9th day of January 2001.
For the Nuclear Regulatory Commission.
William F. Kane,
Director, Office of Nuclear Material Safety and Safeguards.

[FR Doc. 01-1175 Filed 1-12-01; 8:45 am]

BILLING CODE 7590-01-P